DEPARTMENT OF HEALTH AND HUMAN SERVICES

Indian Health Service

Reimbursement Rates for Calendar Year 2007

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2007 for Medicare and Medicaid beneficiaries and beneficiaries of other Federal programs. The Medicare Part A inpatient rates are excluded from the table below as they are paid based on the prospective payment system. Since the inpatient rates set forth below do not include all physician services and practitioner services, additional payment may be available to the extent that those services meet applicable requirements. Public Law 106-554, section 432, dated December 21, 2000, authorized IHS facilities to file Medicare Part B claims with the carrier for payment for physician and certain other practitioner services provided on or after July 1, 2001.

Inpatient Hospital Per Diem Rate (Excludes Physician/Practitioner Services)

Calendar Year 2007

Lower 48 States: $1,725.

Alaska: $2,208.

Outpatient Per Visit Rate (Excluding Medicare)

Calendar Year 2007

Lower 48 States: $256.

Alaska: $398.

Outpatient Per Visit Rate (Medicare)

Calendar Year 2007

Lower 48 States: $201.

Alaska: $356.

Medicare Part B Inpatient Ancillary Per Diem Rate

Calendar Year 2007

Lower 48 States: $353.

Alaska: $613.

Outpatient Surgery Rate (Medicare)

Established Medicare rates for freestanding Ambulatory Surgery Centers

Effective Date for Calendar Year 2007 Rates

Consistent with previous annual rate revisions, the Calendar Year 2007 rates will be effective for services provided on/or after January 1, 2007 to the extent consistent with payment authorities including the applicable Medicaid State plan.

Dated: January 4, 2007.
Charles W. Grim,
Assistant Surgeon General, Director, Indian Health Service.

[FR Doc. 07-3037 Filed 6-19-07; 8:45 am]

BILLING CODE 4165-16-M